DEPARTMENT OF HOMELAND SECURITY

Coast Guard

33 CFR Part 110

[Docket Number USCG-2025-0324]

RIN 1625-AA01

Anchorage Regulations; Anchorage D & E Disestablishment, Chicago, IL

AGENCY: Coast Guard, DHS.

ACTION: Notice of proposed rulemaking.

SUMMARY: The Coast Guard is proposing to disestablish Anchorage D, Chicago Harbor Lock South, and Anchorage E, Chicago Harbor Lock North, in Chicago, IL. This action is necessary to reflect that these two Federal anchorage areas are no longer in use by commercial or recreational vessels. We invite your comments on this proposed rulemaking.

DATES: Comments and related material must be received by the Coast Guard on or July 14, 2025.

ADDRESSES: You may submit comments identified by docket number USCG-2025-0324 using the Federal Decision-Making Portal at https://www.regulations.gov. See the “Public Participation and Request for Comments” portion of the SUPPLEMENTARY INFORMATION section for further instructions on submitting comments. This notice of proposed rulemaking with its plain-language, 100-word-or-less proposed rule summary will be available in this same docket.

FOR FURTHER INFORMATION CONTACT: If you have questions about this proposed rulemaking, call or email Lieutenant Commander Jessica Anderson, Sector Lake Michigan Waterways Management Division, U.S. Coast Guard; telephone 414-747-7182, email Jessica.P.Anderson@uscg.mil.

SUPPLEMENTARY INFORMATION:

I. Table of Abbreviations

CFR Code of Federal Regulations

DHS Department of Homeland Security

FR Federal Register

NPRM Notice of proposed rulemaking

§ Section

U.S.C. United States Code

II. Background, Purpose, and Legal Basis

Anchorage area D, Chicago Harbor Lock South, and Anchorage area E, Chicago Harbor Lock North, were established on August 19, 1985. During the comment period, the local Park District noted that the area north of the locks (anchorage E) could restrict access to future recreation boating developments south of the Navy Pier and that there were plans to develop the slope north of Navy Pier. As the waters of Chicago Harbor are not exclusively for recreational boating needs, commercial vessel needs supported the establishment of the anchorage area. At the time, the new locations provided a slight transit time advantage to the marine towing industry. Anchorages D and E were utilized as temporary mooring areas for towing vessels and tows during inclement weather while awaiting a change of towing vessels.

The Ninth District Commander has determined that, following a 2023 Anchorage Grounds Risk Assessment, Anchorages D and E are no longer in use and their disestablishment would not reduce safety of navigation. Therefore, it is pertinent to revise the current anchorage regulations in 33 CFR 110.205 by removing subparagraphs (a)(4) and (a)(5) to disestablish Anchorages D and E and revise the text in 33 CFR 110.205(b)(7) to remove references to Anchorages D and E.

The purpose of this rulemaking is to disestablish these two anchorage grounds in Chicago, IL. The Coast Guard is proposing this rulemaking under authority in 46 U.S.C. 70006 and 70034.

III. Discussion of Proposed Rule

The Coast Guard is proposing to revise the current anchorage regulations in 33 CFR 110.205 to remove subparagraphs (a)(4) and (a)(5) to disestablish Anchorages D and E. Additionally, we are proposing to revise the text in subparagraph (b)(7) to remove the references to Anchorages D and E. The regulatory text we are proposing appears at the end of this document.

IV. Regulatory Analyses

We developed this proposed rule after considering numerous statutes and Executive Orders related to rulemaking. Below we summarize our analyses based on a number of these statutes and Executive Orders.

A. Regulatory Planning and Review

Executive Orders 12866 and 13563 direct agencies to assess the costs and benefits of available regulatory alternatives and, if regulation is necessary, to select regulatory approaches that maximize net benefits. This NPRM has not been designated a “significant regulatory action” under section 3(f) of Executive Order 12866. Accordingly, the NPRM has not been reviewed by the Office of Management and Budget (OMB).

This regulatory action determination is based on the previous rulemaking and the disestablishment of these anchorages reducing the scope of the previous regulation.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

This regulatory action determination is based on the lack of use of Anchorage D and Anchorage E by both commercial and recreational users. The Ninth District Commander has determined the disestablishment of the anchorages poses no risks to the safety of life and property for the maritime public.

If you think that your business, organization, or governmental jurisdiction qualifies as a small entity and that this proposed rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the proposed rule would affect your small business, organization, or governmental jurisdiction and you have questions concerning its provisions or options for compliance, please call or email the person listed in the FOR FURTHER INFORMATION CONTACT section. The Coast Guard will not retaliate against small entities that question or complain about this proposed rule or any policy or action of the Coast Guard.

C. Collection of Information

This proposed rule would not call for a new collection of information under the Paperwork Reduction Act of 1995 (44 U.S.C. 3501-3520).

D. Federalism and Indian Tribal Governments

A rule has implications for federalism under Executive Order 13132 (Federalism), if it has a substantial direct effect on the States, on the relationship between the National Government and the States, or on the distribution of power and responsibilities among the various levels of government. We have analyzed this proposed rule under that Order and have determined that it is consistent with the fundamental federalism principles and preemption requirements described in Executive Order 13132.

Also, this proposed rule does not have Tribal implications under Executive Order 13175 (Consultation and Coordination with Indian Tribal Governments) because it would not have a substantial direct effect on one or more Indian Tribes, on the relationship between the Federal Government and Indian Tribes, or on the distribution of power and responsibilities between the Federal Government and Indian Tribes. If you believe this proposed rule has implications for federalism or Indian Tribes, please call or email the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, Local, or Tribal Government, in the aggregate, or by the private sector of $100,000,000 (adjusted for inflation) or more in any one year. Though this proposed rule would not result in such an expenditure, we do discuss the potential effects of this proposed rule elsewhere in this preamble.

F. Environment

We have analyzed this proposed rule under Department of Homeland Security Directive 023-01, Rev. 1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. This proposed rule involves disestablishing two anchorage areas in vicinity of Chicago, IL that are no longer in use. Normally such actions are categorically excluded from further review under paragraph L59(b) of Appendix A, Table 1 of DHS Instruction Manual 023-01-001-01, Rev. 1. A Record of Environmental Consideration is not required for actions that disestablish or reduce the size of anchorage grounds. We seek any comments or information that may lead to the discovery of a significant environmental impact from this proposed rule.

V. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments through the Federal Decision-Making Portal at https://www.regulations.gov. To do so, go to https://www.regulations.gov, type USCG-2025-0324 in the search box and click “Search.” Next, look for this document in the Search Results column, and click on it. Then click on the Comment option. If you cannot submit your material by using https://www.regulations.gov, call or email the person in the FOR FURTHER INFORMATION CONTACT section of this proposed rule for alternate instructions.

Viewing material in docket. To view documents mentioned in this proposed rule as being available in the docket, find the docket as described in the previous paragraph, and then select “Supporting & Related Material” in the Document Type column. Public comments will also be placed in our online docket and can be viewed by following instructions on the https://www.regulations.gov Frequently Asked Questions web page. Also, if you click on the Dockets tab and then the proposed rule, you should see a “Subscribe” option for email alerts. The option will notify you when comments are posted, or a final rule is published.

We review all comments received, but we will only post comments that address the topic of the proposed rule. We may choose not to post off-topic, inappropriate, or duplicate comments that we receive.

Personal information. We accept anonymous comments. Comments we post to https://www.regulations.gov will include any personal information you have provided. For more about privacy and submissions to the docket in response to this document, see DHS's eRulemaking System of Records notice (85 FR 14226, March 11, 2020).

List of Subjects in 33 CFR Part 110

Anchorage grounds.

For the reasons set forth in the preamble, the Coast Guard proposes to amend 33 CFR part 110 as follows:

PART 110—ANCHORAGE REGULATIONS

1. The authority citation for part 110 continues to read as follows:

Authority: 33 U.S.C. 2071; 46 U.S.C. 70006, 70034; 33 CFR 1.05-1; Department of Homeland Security Delegation No. 00170.1, Revision No. 01.3.

2. Amend § 110.205 by:

a. Removing paragraphs (a)(4) and (5); and

b. Revising paragraph (b)(7).

The revision reads as follows:

§ 110.205 Chicago Harbor, Ill.

* * * * *

(b) * * *

(7) No vessel may use anchorages A or B except commercial vessels operated for profit. No person may place floats or buoys for making moorings or anchors in place in anchorages A and B. No person may place fixed moorings piles or stakes in anchorages A and B.

* * * * *

Dated: April 24, 2025.
J.P. Hickey,
Rear Admiral, U.S. Coast Guard, Commander, Ninth District.

[FR Doc. 2025-10765 Filed 6-12-25; 8:45 am]

BILLING CODE 9110-04-P